DEPARTMENT OF ENERGY

Federal Energy Regulatory Commission

Combined Notice of Filings #1

Take notice that the Commission received the following electric corporate filings:

Docket Numbers: EC25-27-000.

Applicants: Alabama Power Company, Tenaska Alabama Partners, L.P.

Description: Joint Application for Authorization Under Section 203 of the Federal Power Act of Tenaska Alabama Partners, L.P., et al.

Filed Date: 12/9/24.

Accession Number: 20241209-5258.

Comment Date: 5 p.m. ET 1/23/25.

Take notice that the Commission received the following exempt wholesale generator filings:

Docket Numbers: EG25-54-000.

Applicants: Bocanova Power II LLC.

Description: Bocanova Power II LLC submits Notice of Self-Certification of Exempt Wholesale Generator Status.

Filed Date: 12/9/24.

Accession Number: 20241209-5225.

Comment Date: 5 p.m. ET 12/30/24.

Docket Numbers: EG25-55-000.

Applicants: Washington Wind LLC.

Description: Washington Wind LLC submits Notice of Self-Certification of Exempt Wholesale Generator Status.

Filed Date: 12/10/24.

Accession Number: 20241210-5124.

Comment Date: 5 p.m. ET 12/31/24.

Docket Numbers: EG25-56-000.

Applicants: Blue Moon Energy LLC.

Description: Blue Moon Energy LLC submits Notice of Self-Certification of Exempt Wholesale Generator Status.

Filed Date: 12/10/24.

Accession Number: 20241210-5127.

Comment Date: 5 p.m. ET 12/31/24.

Docket Numbers: EG25-57-000.

Applicants: Crossover Wind LLC.

Description: Crossover Wind LLC submits Notice of Self-Certification of Exempt Wholesale Generator Status.

Filed Date: 12/10/24.

Accession Number: 20241210-5142.

Comment Date: 5 p.m. ET 12/31/24.

Docket Numbers: EG25-58-000.

Applicants: Winfield Solar I, LLC.

Description: Winfield Solar I, LLC submits Notice of Self-Certification of Exempt Wholesale Generator Status.

Filed Date: 12/10/24.

Accession Number: 20241210-5154.

Comment Date: 5 p.m. ET 12/31/24.

Take notice that the Commission received the following Complaints and Compliance filings in EL Dockets:

Docket Numbers: EL25-5-000.

Applicants: Welcome Solar, LLC, Welcome Solar II, LLC, and Welcome Solar III, LLC v. PJM Interconnection, L.L.C.

Description: Amended and Restated Complaint of Welcome Solar, LLC, et al. v. PJM Interconnection, L.L.C.

Filed Date: 12/6/24.

Accession Number: 20241206-5217.

Comment Date: 5 p.m. ET 12/26/24.

Take notice that the Commission received the following electric rate filings:

Docket Numbers: ER20-2186-003; EL20-62-001.

Applicants: Fern Solar LLC.

Description: Fern Solar LLC submits a compliance filing to the 10/17/2024 Commission's order, Opinion No. 591, Order on Initial Decision.

Filed Date: 12/9/24.

Accession Number: 20241209-5257.

Comment Date: 5 p.m. ET 12/30/24.

Docket Numbers: ER25-271-001.

Applicants: PJM Interconnection, L.L.C.

Description: Tariff Amendment: Amendment of NSA, SA No. 7393; AE2-323 in Docket No. ER25-271-000 to be effective 12/30/2024.

Filed Date: 12/10/24.

Accession Number: 20241210-5126.

Comment Date: 5 p.m. ET 12/31/24.

Docket Numbers: ER25-684-000.

Applicants: ITC Midwest LLC.

Description: § 205(d) Rate Filing: Filing of Contribution in Aid and Construction Agreement_ITCMW RS 236 to be effective 2/8/2025.

Filed Date: 12/9/24.

Accession Number: 20241209-5226.

Comment Date: 5 p.m. ET 12/30/24.

Docket Numbers: ER25-685-000.

Applicants: LS Power Grid California, LLC.

Description: § 205(d) Rate Filing: LS Power Grid California eTariff Filing to be effective 2/9/2025.

Filed Date: 12/10/24.

Accession Number: 20241210-5048.

Comment Date: 5 p.m. ET 12/31/24.

Docket Numbers: ER25-686-000.

Applicants: Otter Tail Power Company.

Description: § 205(d) Rate Filing: 2024-12-10_OTP Addition to NSP Zone Schedule 7,8,9 to be effective 1/1/2025.

Filed Date: 12/10/24.

Accession Number: 20241210-5119.

Comment Date: 5 p.m. ET 12/31/24.

Docket Numbers: ER25-687-000.

Applicants: Washington Wind LLC.

Description: § 205(d) Rate Filing: Market-Based Rate Application and Request for Waivers and Blanket Approvals to be effective 2/9/2025.

Filed Date: 12/10/24.

Accession Number: 20241210-5155.

Comment Date: 5 p.m. ET 12/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 10, 2024.
Carlos D. Clay,
Acting Deputy Secretary.

[FR Doc. 2024-29526 Filed 12-13-24; 8:45 am]

BILLING CODE 6717-01-P